DEPARTMENT OF THE INTERIOR

Bureau of Land Management

[LLWO260000 L10600000 XQ0000]

Notice of Call for Nominations for the Wild Horse and Burro Advisory Board

AGENCY: Bureau of Land Management, Interior.

ACTION: Notice.

SUMMARY: The purpose of this notice is to solicit public nominations for three members to the Wild Horse and Burro Advisory Board (Board). The Board provides advice concerning management, protection, and control of wild free-roaming horses and burros on the public lands administered by the Department of the Interior, through the Bureau of Land Management (BLM), and the Department of Agriculture, through the Forest Service.

DATES: Nominations should be submitted to the address listed below no later than September 22, 2011.

ADDRESSES: All mail sent via the U.S. Postal Service should be sent as follows: National Wild Horse and Burro Program, U.S. Department of Interior, Bureau of Land Management, 1849 C Street, NW., Room 2134LM, Attn: Sharon Kipping, Washington, DC 20240. All mail and packages that are sent via FedEx or UPS should be addressed as follows: National Wild Horse and Burro Program, U.S. Department of Interior, Bureau of Land Management, 20 M Street, SE., Room 2134LM, Attn: Sharon Kipping, Washington, DC 20003. You may also send a fax to Ms. Kipping at 202-912-7182, or e-mail her at skipping@blm.gov.

FOR FURTHER INFORMATION CONTACT: Sharon Kipping, Wild Horse and Burro Program Specialist at 202-912-7263. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Members of the Council serve without compensation. However, while away from their homes or regular places of business, Council and subcommittee members engaged in Council or subcommittee business, approved by the Designated Federal Official, may be allowed travel expenses, including per diem in lieu of subsistence, in the same manner as persons employed intermittently in Government service under Section 5703 of Title 5 of the United States Code. Nominations for a term of 3 years are needed to represent the following categories of interest:

Wild horse and burro advocacy groups;

Veterinary medicine (equine science); and

General public interest (with special knowledge of wild horses and burros, wildlife, animal husbandry, or natural resource management).

Individuals may nominate themselves or others. Any individual or organization may nominate one or more persons to serve on the Board. The following information must accompany all nominations for the individual to be considered for a position. Nominations will not be accepted without a complete resume of the nominee, including the following:

1. Which positions the nominee wishes to be considered for;

2. Nominee's First, Middle and Last Name;

3. Business Address and Phone;

4. Home Address and Phone;

5. E-mail Address;

6. Present Occupation/Title;

7. Education: (colleges, degrees, major field of study);

8. Career Highlights: Significant related experience, civic and professional activities, elected or appointed offices (included prior advisory committee experience or career achievements related to the interest to be represented). Attach additional pages, as necessary;

9. Qualifications: Education, training and experience that qualify you to serve on the Board;

10. Experience or knowledge of wild horse and burro management and the issues facing the BLM;

11. Experience or knowledge of horses or burros: (equine health, training and management);

12. Experience in working with disparate groups to achieve collaborative solutions: (civic organizations, planning commissions, school boards);

13. Indicate any BLM permits, leases or licenses that you or your employer hold (or state Not Applicable); and

14. Indicate whether or not you are a federally registered lobbyist.

—Attach or have letters of references sent from special interests or organizations you may represent. Also letters of endorsement from business associates; friends; co-workers; local, State, and/or Federal government representatives; or members of Congress along with any other information that speaks to the nominee's qualifications.

Simultaneously with this notice, the BLM state offices will issue press releases providing information for submitting nominations.

As appropriate, certain Board members may be appointed as Special Government Employees. Special Government Employees serve on the board without compensation, and are subject to financial disclosure requirements in the Ethics in Government Act and 5 CFR part 2634. Nominations are to be sent to the address listed under ADDRESSES above.

Privacy Act Statement: The authority to request this information is contained in 5 U.S.C. 301, the Federal Advisory Committee Act, and Part 1784 of Title 43, Code of Federal Regulations. It is used by the appointment officer to determine education, training, and experience related to possible service on an Advisory Council of the Bureau of Land Management. If you are appointed as an advisor, the information will be retained by the appointing official for as long as you serve. Otherwise, it will be destroyed 2 years after termination of your membership or returned (if requested) following announcement of the Council appointments. Completion of this form is voluntary. However, failure to complete any or all items will inhibit fair evaluation of your qualifications, and could result in you not receiving full consideration for appointment.

Each nominee will be considered for selection according to his or her ability to represent his or her designated constituency, analyze and interpret data and information, evaluate programs, identify problems, work collaboratively in seeking solutions, and formulate and recommend corrective actions.

The Obama Administration prohibits individuals who are currently federally registered lobbyists to serve on all Federal Advisory Committee Act (FACA) and non-FACA boards, committees or councils. Pursuant to Section 7 of the Wild Free-Roaming Horses and Burros Act, members of the Board cannot be employed by either Federal or State governments. The Board will meet no less than two times annually. The BLM Director may call additional meetings in connection with special needs for advice.

Certification Statement: I hereby certify that the National Wild Horse and Burro Advisory Board is necessary and in the public interest in connection with the Secretary's responsibilities to manage the lands, resources, and facilities administered by the BLM.

Edwin L. Roberson,
Assistant Director, Renewable Resources and Planning.

[FR Doc. 2011-19998 Filed 8-5-11; 8:45 am]

BILLING CODE 4310-84-P